NUCLEAR REGULATORY COMMISSION

10 CFR Part 72

[NRC-2014-0120]

RIN 3150-AJ42

List of Approved Spent Fuel Storage Casks: Holtec International HI-STORM Underground Maximum Capacity Canister Storage System, Certificate of Compliance No. 1040

AGENCY: Nuclear Regulatory Commission.

ACTION: Final rule.

SUMMARY: The U.S. Nuclear Regulatory Commission (NRC) is amending its spent fuel storage regulations by adding the Holtec International HI-STORM Underground Maximum Capacity (UMAX) Canister Storage System, Certificate of Compliance (CoC) No. 1040, to the “List of approved spent fuel storage casks.” Holtec International's intent with this design is to provide an underground storage option compatible with the Holtec International HI-STORM FLOOD/WIND (FW) System (CoC No. 1032).

DATES: This final rule is effective on April 6, 2015.

ADDRESSES: Please refer to Docket ID NRC-2014-0120 when contacting the NRC about the availability of information for this action. You may obtain publicly-available information related to this action by any of the following methods:

• Federal Rulemaking Web site: Go to http://www.regulations.gov and search for Docket ID NRC-2014-0120. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O-1F21, One White Flint North, 11555 Rockville Pike, Rockville, Maryland 20852.

FOR FURTHER INFORMATION CONTACT: Gregory R. Trussell, Office of Nuclear Material Safety and Safeguards, U.S. Nuclear Regulatory Commission, Washington, DC 20555-0001, telephone: 301-415-6445, email: Gregory.Trussell@nrc.gov.

SUPPLEMENTARY INFORMATION:

Table of Contents

I. Background

II. Discussion of Changes

III. Public Comment Analysis

IV. Voluntary Consensus Standards

V. Agreement State Compatibility

VI. Plain Writing

VII. Environmental Assessment and Finding of No Significant Environmental Impact

VIII. Paperwork Reduction Act Statement

IX. Regulatory Analysis

X. Regulatory Flexibility Certification

XI. Backfitting and Issue Finality

XII. Congressional Review Act

XIII. Availability of Documents

I. Background

Section 218(a) of the Nuclear Waste Policy Act (NWPA) of 1982, as amended, requires that “the Secretary [of the Department of Energy] shall establish a demonstration program, in cooperation with the private sector, for the dry storage of spent nuclear fuel at civilian nuclear power reactor sites, with the objective of establishing one or more technologies that the [Nuclear Regulatory] Commission may, by rule, approve for use at the sites of civilian nuclear power reactors without, to the maximum extent practicable, the need for additional site-specific approvals by the Commission.” Section 133 of the NWPA states, in part, that “[the Commission] shall, by rule, establish procedures for the licensing of any technology approved by the Commission under Section 219(a) [sic: 218(a)] for use at the site of any civilian nuclear power reactor.”

To implement this mandate, the Commission approved dry storage of spent nuclear fuel in NRC-approved casks under a general license by publishing a final rule in part 72 of Title 10 of the Code of Federal Regulations (10 CFR), which added a new subpart K within 10 CFR part 72 entitled, “General License for Storage of Spent Fuel at Power Reactor Sites” (55 FR 29181; July 18, 1990). This rule also established a new subpart L within 10 CFR part 72 entitled, “Approval of Spent Fuel Storage Casks,” which contains procedures and criteria for obtaining NRC approval of spent fuel storage cask designs.

The NRC published a direct final rule on this amendment in the Federal Register on September 9, 2014 (79 FR 53281). The NRC also concurrently published an identical proposed rule on September 9, 2014 (79 FR 53352). The NRC received at least one comment that is treated as a significant adverse comment on the proposed rule; therefore, the NRC withdrew the direct final rule on November 19, 2014 (79 FR 68763), and is proceeding, in this document, to address the comments on the proposed rule (see Section III, Public Comment Analysis, of this document).

II. Discussion of Changes

By letter dated June 29, 2012, and as supplemented on July 16 and November 20, 2012; January 30, April 2, April 19, June 21, August 28, December 6, and December 31, 2013; and January 13, and January 28, 2014, Holtec International submitted an application to add the HI-STORM UMAX Canister Storage System to the list of approved spent fuel storage casks in 10 CFR part 72. The HI-STORM UMAX Canister Storage System is a spent fuel storage system designed to be in full compliance with the requirements of 10 CFR part 72. Holtec International's intent with this design is to provide an underground storage option compatible with the Holtec International HI-STORM FW System as described in the Final Safety Analysis Report (FSAR) for the HI-STORM FW System. The underground structure system is described in the FSAR for the HI-STORM UMAX Canister Storage System. The HI-STORM UMAX Canister Storage System stores a hermetically sealed canister containing spent nuclear fuel (SNF) in an in-ground vertical ventilated module (VVM). The HI-STORM UMAX Canister Storage System is designed to provide long-term underground storage of loaded multi-purpose canisters (MPC) previously certified for storage in CoC No. 1032. The HI-STORM UMAX VVM is the underground equivalent of the HI-STORM FW storage module. Although the storage cavity dimensions and the air ventilation system in the HI-STORM UMAX VVM have been selected to enable it to also store all MPCs certified for storage in the HI-STORM 100 storage module, CoC No. 1040 does not approve the storage of all MPCs certified for storage in the HI-STORM 100 storage module in the HI-STORM UMAX VVM at this time. The HI-STORM UMAX Canister Storage System can store either Pressurized Water Reactor or Boiling Water Reactor fuel assemblies in the MPC-37 or MPC-89 models, respectively. The number associated with the MPC is the maximum number of fuel assemblies the MPC can contain in the fuel basket. The external diameters of the MPC-37 and MPC-89 are identical to allow the use of a single storage module design, however the height of the MPC, as well as the storage module and transfer cask, are variable based on the SNF to be loaded.

As documented in the safety evaluation report (SER), the NRC staff performed a detailed safety evaluation of the proposed CoC request submitted by Holtec International.

The HI-STORM UMAX Canister Storage System, when used under the conditions specified in the CoC, the Technical Specifications (TSs), and the NRC's regulations, will meet the requirements of 10 CFR part 72; therefore, adequate protection of public health and safety will continue to be ensured. When this final rule becomes effective, persons who hold a general license under 10 CFR 72.210 may load spent nuclear fuel into HI-STORM UMAX Canister Storage Systems that meet the criteria of CoC No. 1040 under 10 CFR 72.212.

III. Public Comment Analysis

The NRC received multiple comments from private citizens on the companion proposed rule to the direct final rule published on September 9, 2014. The NRC has not made any changes to the proposed rule as a result of the public comments the NRC has received.

Summary of Comments

The NRC received almost a dozen comments on the proposed rule, many raising multiple and overlapping issues. Because the NRC received at least one comment that it is treating as a significant adverse comment on the proposed rule (raising issues the NRC deemed serious enough to warrant a substantive response to clarify the record), the NRC withdrew the direct final rule and is responding to the comments here. Other comments were not treated as significant adverse comments because, in most instances, they were beyond the scope of this rulemaking. Nonetheless, in addition to responding to the issues raised in the comments treated as significant adverse comments, the NRC is also taking this opportunity to respond to some of the issues raised in the comments that are beyond this scope of this rulemaking in order to clarify information about the CoC rulemaking process related to the comments received.

Aging Management Programs

Many of the comments the NRC received questioned the fact that aging management programs (AMPs) were not being established for this CoC system. Commenters noted that the NRC has not yet issued the revision to NUREG-1927 (“Standard Review Plan for Renewal of Spent Fuel Dry Cask Storage System Licenses and Certificates of Compliance”), which is currently being updated to include information regarding AMPs, among other things. The comments stated that the approval of this CoC system, “should be put on hold until after the revised NUREG-1927 is final and any appropriate aging management issues are addressed in this CoC.”

The comments questioned some specific example AMPs discussed at public meetings, including questions regarding an example AMP for Chloride-Induced Stress Corrosion Cracking Tests (seismic concerns and sampling size), as well as the absence of an AMP given issues with damaged fuels and the “unknowns of extended storage with high burnup fuel.” In sum, these commenters felt that approval of CoCs, such as this one, should await the formulation and approval of aging management programs.

Response

These comments are outside the scope of this rulemaking which is limited to amending the spent fuel storage regulations by adding the UMAX Canister Storage System, CoC No. 1040, to the “List of approved spent fuel storage casks” in 10 CFR 72.214. This rulemaking is not making any changes to the regulations governing the standards for approval of a CoC.

The CoC for the HI-STORM UMAX is being issued for 20 years in accordance with 10 CFR part 72. According to the NRC staff's SER published in the Federal Register under Docket ID NRC-2014-0120, the staff has determined that the use of the HI-STORM UMAX Canister Storage System will be conducted in compliance with the applicable regulations of 10 CFR part 72, and the CoC should be approved for the initial 20-year term. There are currently no technical or regulatory requirements for the inclusion of AMPs for the initial 20-year CoC term. AMPs are required for spent fuel storage cask renewal which allows storage beyond 20 years, as provided in 10 CFR 72.240. The current regulatory requirements provide the necessary defense in depth for safe storage of spent nuclear fuel for at least 20 years.

Based on the regulations in 10 CFR part 72, an AMP will be required to be included in any renewal application for the HI-STORM UMAX Canister Storage System, for a duration beyond the initial 20-year term. The renewal application, if filed, will be required to comply with the applicable regulations, and consider applicable NRC aging management guidance available at the time of submittal. While NUREG-1927 may prove useful to applicants seeking to renew a CoC, because it does not provide guidance regarding applications seeking initial approval of certificates, there is no reason to await the guidance before proceeding with the addition of this system to the 10 CFR part 72 regulations.

Inspection Access

Several comments also questioned the ability of the underground storage system to be adequately inspected and potentially repaired if necessary during the initial certification period of 20 years, especially if the system was being used in a coastal environment where stress corrosion cracking could be an issue.

Response

The NRC is treating this comment as a significant adverse comment warranting clarification of the record. The NRC has evaluated the design of the HI-STORM UMAX Canister Storage System and has determined that the design is robust, and contains numbers of layers of acceptable confinement systems in compliance with 10 CFR part 72 requirements. In addition, the staff is not aware of empirical evidence that supports a finding that surveillance would be required in the initial certification period of the proposed CoC. This evaluation is documented in the NRC staff's SER under Docket ID NRC-2014-0120.

Furthermore, the NRC has evaluated the susceptibility to and effects of stress corrosion cracking and other corrosion mechanisms on safety significant systems for SNF dry cask storage (DCS) systems during an initial certification period. The staff has determined that the HI-STORM UMAX Canister Storage System, when used within the requirements of the proposed CoC, will safely store SNF and prevent radiation releases and exposure consistent with regulatory requirements.

Seismic Protection

Several comments also raised concerns regarding the ability of this CoC system to withstand seismic events, particularly if the system were to be used at specific sites with known seismic activity, such as San Onofre Nuclear Generating Station (SONGS).

Response

The NRC is treating this comment as a significant adverse comment warranting clarification of the record. This rulemaking would add a CoC system to the list of approved spent fuel storage casks in 10 CFR 72.214. The certification provided by this approval does not, in and of itself, authorize use of this system at any specific site. Instead, general licensees (a power reactor that stores spent fuel under a general Part 72 license) that wish to use this system must first ensure that other applicable requirements are met. (See 10 CFR 72.212).

The seismic design levels of the HI-STORM UMAX Canister Storage System as provided in this CoC are acceptable for most areas in the continental U.S. For locations that have potential seismic activity beyond those analyzed for this system, additional evaluations and certifications may be required before the system may be used in those locations. The NRC is currently evaluating an amendment request to the HI-STORM UMAX Canister Storage System that provides additional analysis intended to ensure the system's integrity during an earthquake with higher seismic demands, including the seismic demands at the location of SONGS. If the NRC approves that amendment request, the amended system could be selected for use at SONGS, provided regulatory requirements are met.

Bankruptcy

A comment also raised questions about the implications of the potential bankruptcy of corporations that seek CoC approvals.

Response

This comment is outside the scope of this rulemaking. This rulemaking would add a certified system to the list of spent fuel systems in 10 CFR 72.214 and does not seek to alter the standards for approval of a CoC system. In any event, NRC regulations in 10 CFR part 72 address the financial viability of licensees to ensure spent fuel management and decommissioning are funded. Pursuant to NRC requirements, once a general licensee accepts delivery of a storage system authorized by a CoC, the financial responsibility for maintaining and decommissioning the system become the responsibility of the general licensee (see 10 CFR 72.30(b), (c), (d), (e), and (f)).

Flood Protection

One comment stated that the design basis of the Watts Bar 2 reactor (not yet licensed for operation) intends that safe shut down could occur if there were a flood event that delivered 13½ feet of water at the reactor buildings. This comment raised the concern that the cask waste storage in an adjacent area would have equal or greater flooding.

Response

This rulemaking is limited to the approval of a CoC system to be added to the list of spent fuel storage casks in 10 CFR 72.214. This rulemaking does not propose any change to the standards for approval of a CoC, or the requirements that govern the use of this CoC by a general licensee. Therefore, this comment is outside the scope of this rulemaking.

The NRC's regulations at 10 CFR 72.212, “Conditions of a general license issued under 10 CFR 72.210,” require that a general licensee (a power reactor that stores spent fuel under a general part 72 license) perform written evaluations to ensure that the DCS systems used at the location meet the technical requirements of the CoC. The NRC inspects these evaluations prior to the first use of the DCS system and every three years after first use to ensure compliance with the terms of the CoC. If the CoC does not allow for water intrusion, then the general licensee is required to provide engineered measures to ensure that this condition does not occur.

High Burnup Fuel

Several comments also raised questions regarding the long-term acceptability of the extended storage of high burnup fuel (HBF).

Response

Most of the comments raising HBF as an issue did so in the context of the need for AMPs for approval of the CoC for the first 20 years, and that is beyond the scope of this rulemaking, as explained above.

To the extent commenters raised issues about the storage of HBF in the CoC for the first 20 years, the NRC is treating this portion of the comment as a significant adverse comment warranting clarification of the record. The NRC has evaluated the acceptability of storage of HBF for the initial 20-year certification term for the HI-STORM UMAX Canister Storage System. As documented in the NRC staff's SER under Docket ID NRC-2014-0120, the staff has determined that the use of the HI-STORM UMAX Canister Storage System, including storage of HBF, will be conducted in compliance with the applicable regulations of 10 CFR part 72, and the CoC should be approved for the initial 20-year term.

Storage beyond the initial term of 20 years will require the applicant to submit a license renewal application with the inclusion of AMPs addressing HBF. In that regard, a demonstration project is being planned by the U.S. Department of Energy to provide confirmatory data on the performance of HBF in DCS. The NRC plans to evaluate the data obtained from the project to confirm the accuracy of current models that are relied upon for authorizing the storage of HBF for extended storage periods beyond the initial 20-year certification term.

Duration of Certificate

Some comments also raised issues with the limited duration of this initial CoC for a term of only 20 years and stated that the systems should have to demonstrate safe storage of nuclear fuel for a much longer storage period.

Response

The issues of long-term storage and disposal of SNF are outside the scope of this CoC rulemaking. This rule is limited to the addition of this storage system to the list of approved designs in 10 CFR 72.214. The regulations governing the length of the CoC term are not within the changes proposed by this rule.

Inspector General's Report

One comment highlighted issues addressed in the 2014 NRC Inspector General's report of the SONGS steam generator replacement, entitled, “NRC Oversight of Licensee's Use of 10 CFR 50.59 Process to Replace SONG'S Steam Generators (Case No. 13-006).”

Response

The issues raised by the NRC's IG report of the SONGS steam generator replacement are outside the scope of this rulemaking. This report is applicable only to that proposed steam generator replacement effort, and does not apply to nor is it related to this specific CoC rulemaking. Approval of this CoC is based upon a safety and environmental review of this specific CoC design as submitted by the vendor. If power reactor licensees wish to use this system at their specific sites, they must first ensure other applicable regulatory requirements are met (see 10 CFR 72.212).

IV. Voluntary Consensus Standards

The National Technology Transfer and Advancement Act of 1995 (Pub. L. 104-113) requires that Federal agencies use technical standards that are developed or adopted by voluntary consensus standards bodies unless the use of such a standard is inconsistent with applicable law or otherwise impractical. In this final rule, the NRC will add the Holtec International HI-STORM UMAX Canister Storage System design to the listing in 10 CFR 72.214. This action does not constitute the establishment of a standard that contains generally applicable requirements.

V. Agreement State Compatibility

Under the “Policy Statement on Adequacy and Compatibility of Agreement State Programs” approved by the Commission on June 30, 1997, and published in the Federal Register on September 3, 1997 (62 FR 46517), this final rule is classified as Compatibility Category “NRC.” Compatibility is not required for Category “NRC” regulations. The NRC program elements in this category are those that relate directly to areas of regulation reserved to the NRC by the Atomic Energy Act of 1954, as amended, or the provisions of 10 CFR. Although an Agreement State may not adopt program elements reserved to the NRC, it may wish to inform its licensees of certain requirements via a mechanism that is consistent with the particular State's administrative procedure laws, but does not confer regulatory authority on the State.

VI. Plain Writing

The Plain Writing Act of 2010 (Pub. L. 111-274), requires Federal agencies to write documents in a clear, concise, and well-organized manner. The NRC has written this document to be consistent with the Plain Writing Act as well as the Presidential Memorandum “Plain Language in Government Writing,” published June 10, 1998 (63 FR 31883).

VII. Environmental Assessment and Finding of No Significant Environmental Impact

A. The Action

The action is to amend 10 CFR 72.214 to add the Holtec International HI-STORM UMAX Canister Storage System to the listing within the “List of approved spent fuel storage casks” as CoC No. 1040. Under the National Environmental Policy Act of 1969, as amended, and the NRC's regulations in subpart A of 10 CFR part 51, “Environmental Protection Regulations for Domestic Licensing and Related Regulatory Functions,” the NRC has determined that this rule, if adopted, would not be a major Federal action significantly affecting the quality of the human environment and, therefore, an environmental impact statement is not required. The NRC has made a finding of no significant impact on the basis of this environmental assessment.

B. The Need for the Action

This final rule adds CoC No. 1040 for the Holtec International HI-STORM UMAX Canister Storage System design within the list of approved spent fuel storage casks that power reactor licensees can use to store spent fuel at reactor sites under a general license. Specifically, Holtec International's intent with this design is to provide an underground storage option compatible with the Holtec International HI-STORM FW System.

C. Environmental Impacts of the Action

On July 18, 1990 (55 FR 29181), the NRC issued an amendment to 10 CFR part 72 to provide for the storage of spent fuel under a general license in cask designs approved by the NRC. The potential environmental impact of using NRC-approved storage casks was initially analyzed in the environmental assessment for the 1990 final rule. The environmental assessment for this CoC addition tiers off of the environmental assessment for the July 18, 1990, final rule. Tiering on past environmental assessments is a standard process under the National Environmental Policy Act.

Holtec International HI-STORM UMAX Canister Storage Systems are designed to mitigate the effects of design basis accidents that could occur during storage. Design basis accidents account for human-induced events and the most severe natural phenomena reported for the site and surrounding area. Postulated accidents analyzed for an ISFSI, the type of facility at which a holder of a power reactor operating license would store spent fuel in casks in accordance with 10 CFR part 72, include tornado winds and tornado-generated missiles, a design basis earthquake, a design basis flood, an accidental cask drop, lightning effects, fire, explosions, and other incidents.

Considering the specific design requirements for each accident condition, the design of the HI-STORM UMAX Canister Storage System would prevent loss of containment, shielding, and criticality control. If there is no loss of containment, shielding, or criticality control, the environmental impacts would be insignificant. In addition, any resulting occupational exposure or offsite dose rates from the use of the HI-STORM UMAX Canister Storage System would remain well within the 10 CFR part 20 limits. Therefore, the proposed addition of CoC No. 1040 will not result in radiological or non-radiological environmental impacts that significantly differ from the environmental impacts evaluated in the environmental assessment supporting the July 18, 1990, final rule. There will be no significant change in the types or significant revisions in the amounts of effluent released, no significant increase in the individual or cumulative radiation exposure, and no significant increase in the potential for or consequences from radiological accidents. The staff documented its safety findings for this review in the SER.

D. Alternative to the Action

The alternative to this action is to withhold approval of this new design and issue a site-specific license to each utility that proposes to use the casks. This alternative would cost both the NRC and utilities more time and money for each site-specific license. Conducting site-specific reviews would ignore the procedures and criteria currently in place for the addition of new cask designs that can be used under a general license, and would be in conflict with NWPA direction to the Commission to approve technologies for the use of spent fuel storage at the sites of civilian nuclear power reactors without, to the maximum extent practicable, the need for additional site reviews. This alternative also would tend to exclude new vendors from the business market without cause and would arbitrarily limit the choice of cask designs available to power reactor licensees. This final rule will eliminate the above problems and is consistent with previous Commission actions. Further, the rule will have no adverse effect on public health and safety. Therefore, the environmental impacts would be the same or less than the action.

E. Alternative Use of Resources

Approval of the addition of CoC No. 1040 would result in no irreversible commitments of resources.

F. Agencies and Persons Contacted

No agencies or persons outside the NRC were contacted in connection with the preparation of this environmental assessment.

G. Finding of No Significant Impact

The environmental impacts of the action have been reviewed under the requirements in 10 CFR part 51. Based on the foregoing environmental assessment, the NRC concludes that this final rule entitled, “List of Approved Spent Fuel Storage Casks: Holtec International HI-STORM UMAX Canister Storage System, Certificate of Compliance No. 1040,” will not have a significant effect on the human environment. Therefore, the NRC has determined that an environmental impact statement is not necessary for this final rule.

VIII. Paperwork Reduction Act Statement

This rule does not contain any information collection requirements and, therefore, is not subject to the requirements of the Paperwork Reduction Act of 1995 (44 U.S.C. 3501 et seq.).

Public Protection Notification

The NRC may not conduct or sponsor, and a person is not required to respond to, a request for information or an information collection requirement unless the requesting document displays a current valid OMB control number.

IX. Regulatory Analysis

On July 18, 1990 (55 FR 29181), the NRC issued an amendment to 10 CFR part 72 to provide for the storage of spent nuclear fuel under a general license in cask designs approved by the NRC. Any nuclear power reactor licensee can use NRC-approved cask designs to store spent nuclear fuel if it notifies the NRC in advance, the spent fuel is stored under the conditions specified in the cask's CoC, and the conditions of the general license are met. A list of NRC-approved cask designs is contained in 10 CFR 72.214.

By letter dated June 29, 2012, and as supplemented on July 16 and November 20, 2012; January 30, April 2, April 19, June 21, August 28, December 6, and December 31, 2013; and January 13, and January 28, 2014, Holtec International submitted an application to add the HI-STORM UMAX Canister Storage System.

The alternative to this action is to withhold approval of this new design and issue a site-specific license to each utility that proposes to use the casks. This alternative would cost both the NRC and utilities more time and money for each site-specific license. Conducting site-specific reviews would ignore the procedures and criteria currently in place for the addition of new cask designs that can be used under a general license, and would be in conflict with NWPA direction to the Commission to approve technologies for the use of spent fuel storage at the sites of civilian nuclear power reactors without, to the maximum extent practicable, the need for additional site reviews. This alternative also would tend to exclude new vendors from the business market without cause and would arbitrarily limit the choice of cask designs available to power reactor licensees. This final rule will eliminate the above problems and is consistent with previous Commission actions. Further, the rule will have no adverse effect on public health and safety.

Approval of this final rule is consistent with previous NRC actions. Further, as documented in the SER and the environmental assessment, the final rule will have no adverse effect on public health and safety or the environment. This final rule has no significant identifiable impact or benefit on other Government agencies. Based on this regulatory analysis, the NRC concludes that the requirements of the final rule are commensurate with the NRC's responsibilities for public health and safety and the common defense and security. No other available alternative is believed to be as satisfactory, and therefore, this action is recommended.

X. Regulatory Flexibility Certification

Under the Regulatory Flexibility Act of 1980 (5 U.S.C. 605(b)), the NRC certifies that this rule will not, if issued, have a significant economic impact on a substantial number of small entities. This final rule affects only nuclear power plant licensees and Holtec International. These entities do not fall within the scope of the definition of small entities set forth in the Regulatory Flexibility Act or the size standards established by the NRC (10 CFR 2.810).

XI. Backfitting and Issue Finality

The NRC has determined that the backfit rule (10 CFR 72.62) does not apply to this final rule. Therefore, a backfit analysis is not required. This final rule adds CoC No. 1040 for the Holtec International HI-STORM UMAX Canister Storage System to the “List of approved spent fuel storage casks.”

The addition of CoC No. 1040 for the Holtec International HI-STORM UMAX Canister Storage System was initiated by Holtec International and was not submitted in response to new NRC requirements, or in response to an NRC request. The addition of CoC No. 1040 does not constitute backfitting under 10 CFR 72.62, 10 CFR 50.109(a)(1), or otherwise represent an inconsistency with the issue finality provisions applicable to combined licenses in 10 CFR part 52. Accordingly, no backfit analysis or additional documentation addressing the issue finality criteria in 10 CFR part 52 has been prepared by the staff.

XII. Congressional Review Act

In accordance with the Congressional Review Act of 1996 (5 U.S.C. 801-808), the NRC has determined that this action is not a rule as defined in the Congressional Review Act.

XIII. Availability of Documents

The documents identified in the following table are available to interested persons through one or more of the following methods, as indicated.

Document | ADAMS Accession No.
CoC No. 1040 | ML14122A443
Safety Evaluation Report | ML14122A441
Technical Specifications, Appendix A | ML14122A444
Technical Specifications, Appendix B | ML14122A442
Application | ML121880102
Application supplemental July 16, 2012 | ML12205A134
Application supplemental November 20, 2012 | ML12348A483
Application supplemental January 30, 2013 | ML13032A008
Application supplemental April 2, 2013 | ML13107B249
Application supplemental April 19, 2013 | ML13114A191
Application supplemental June 21, 2013 | ML13175A363
Application supplemental August 28, 2013 | ML13261A062
Application supplemental December 6, 2013 | ML13343A169
Application supplemental December 31, 2013 | ML14002A402
Application supplemental January 13, 2014 | ML14015A145
Application supplemental January 28, 2014 | ML14030A055
HI-STORM FW System FSAR | ML12363A284
HI-STORM UMAX Canister Storage System FSAR | ML12363A282

The NRC may post materials related to this document, including public comments, on the Federal rulemaking Web site at http://www.regulations.gov under Docket ID NRC-2014-0120. The Federal rulemaking Web site allows you to receive alerts when changes or additions occur in a docket folder. To subscribe: (1) Navigate to the docket folder (NRC-2014-0120); (2) click the “Sign up for Email Alerts” link; and (3) enter your email address and select how frequently you would like to receive emails (daily, weekly, or monthly).

List of Subjects in 10 CFR Part 72

Administrative practice and procedure, Criminal penalties, Manpower training programs, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; and 5 U.S.C. 552 and 553, the NRC is adopting the following amendments to 10 CFR part 72.

PART 72—LICENSING REQUIREMENTS FOR THE INDEPENDENT STORAGE OF SPENT NUCLEAR FUEL, HIGH-LEVEL RADIOACTIVE WASTE AND REACTOR-RELATED GREATER THAN CLASS C WASTE

1. The authority citation for part 72 continues to read as follows:

Authority: Atomic Energy Act secs. 51, 53, 57, 62, 63, 65, 69, 81, 161, 182, 183, 184, 186, 187, 189, 223, 234, 274 (42 U.S.C. 2071, 2073, 2077, 2092, 2093, 2095, 2099, 2111, 2201, 2232, 2233, 2234, 2236, 2237, 2239, 2273, 2282, 2021); Energy Reorganization Act secs. 201, 202, 206, 211 (42 U.S.C. 5841, 5842, 5846, 5851); National Environmental Policy Act sec. 102 (42 U.S.C. 4332); Nuclear Waste Policy Act secs. 131, 132, 133, 135, 137, 141, 148 (42 U.S.C. 10151, 10152, 10153, 10155, 10157, 10161, 10168); Government Paperwork Elimination Act sec. 1704, (44 U.S.C. 3504 note); Energy Policy Act of 2005, Pub. L. 109-58, 119 Stat. 788 (2005).

Section 72.44(g) also issued under Nuclear Waste Policy Act secs. 142(b) and 148(c), (d) (42 U.S.C. 10162(b), 10168(c), (d)).

Section 72.46 also issued under Atomic Energy Act sec. 189 (42 U.S.C. 2239); Nuclear Waste Policy Act sec. 134 (42 U.S.C. 10154).

Section 72.96(d) also issued under Nuclear Waste Policy Act sec. 145(g) (42 U.S.C. 10165(g)).

Subpart J also issued under Nuclear Waste Policy Act secs. 117(a), 141(h) (42 U.S.C. 10137(a), 10161(h)).

Subpart K also issued under Nuclear Waste Policy Act sec. 218(a) (42 U.S.C. 10198).

2. Section 72.214 is amended by adding Certificate of Compliance 1040 to read as follows:

§ 72.214 List of approved spent fuel storage casks.

* * * * *

Certificate Number: 1040.

Initial Certificate Effective Date: April 6, 2015.

SAR Submitted by: Holtec International, Inc.

SAR Title: Final Safety Analysis Report for the Holtec International HI-STORM UMAX Canister Storage System.

Docket Number: 72-1040.

Certificate Expiration Date: March 6, 2035.

Model Number: MPC-37, MPC-89.

Dated at Rockville, Maryland, this 24th day of February 2015.
For the Nuclear Regulatory Commission.
Mark A. Satorius,
Executive Director for Operations.

[FR Doc. 2015-05238 Filed 3-5-15; 8:45 am]

BILLING CODE 7590-01-P